DEPARTMENT OF TRANSPORTATION

Federal Motor Carrier Safety Administration

49 CFR Part 391

Federal Railroad Administration

49 CFR Parts 240 and 242

[Docket Numbers FMCSA-2015-0419 and FRA-2015-0111]

RIN 2126-AB88 and 2130-AC52

Evaluation of Safety Sensitive Personnel for Moderate-to-Severe Obstructive Sleep Apnea

AGENCY: Federal Motor Carrier Safety Administration (FMCSA) and Federal Railroad Administration (FRA), Department of Transportation (DOT).

ACTION: Advance Notice of Proposed Rulemaking (ANPRM); extension of comment period.

SUMMARY: FMCSA and FRA published an ANPRM on March 10, 2016, requesting certain information regarding the evaluation of safety sensitive personnel for moderate-to-severe obstructive sleep apnea (OSA). The comment period for the ANPRM is extended from June 8, 2016, to July 8, 2016.

DATES: The comment period for the ANPRM published in the Federal Register on March 10, 2016 (81 FR 12642) is extended. Comments on the ANPRM are due by July 8, 2016.

ADDRESSES: You may submit comments identified by either of the docket numbers listed at the beginning of this document using any one of the following methods:

Federal Rulemaking Portal: www.regulations.gov.

Fax: 202-493-2251.

Mail: Docket Services (M-30), U.S. Department of Transportation, West Building Ground Floor, Room W12-140, 1200 New Jersey Avenue SE., Washington, DC 20590-0001.

Hand delivery: Same as mail address above, between 9 a.m. and 5 p.m., Monday through Friday, except Federal holidays. The telephone number is 202-366-9329. To avoid duplication, please use only one of these four methods. See the “Public Participation and Request for Comments” heading under the SUPPLEMENTARY INFORMATION section below for instructions regarding submitting comments.

FOR FURTHER INFORMATION CONTACT: FMCSA: Ms. Christine Hydock, Chief of the Medical Programs Division, FMCSA, 1200 New Jersey Ave SE., Washington, DC 20590-0001, by telephone at 202-366-4001, or by email at fmcsamedical@dot.gov.

FRA: Dr. Bernard Arseneau, Medical Director, Assurance and Compliance, FRA, 1200 New Jersey Avenue SE., Washington, DC 20590-0001, by telephone at 202-493-6232, or by email at Bernard.arseneau@dot.gov.

If you have questions about viewing or submitting material to the docket, call Ms. Cheryl Collins, Dockets Manager, Docket Services, telephone 202-493-0402.

SUPPLEMENTARY INFORMATION:

Public Participation and Request for Comments

FMCSA and FRA encourage you to participate by submitting comments and related materials.

Submitting Comments

If you submit a comment, please include the docket number for this document (FMCSA-2015-0419 or FRA-2015-0111), indicate the specific section of this document to which each comment applies, and provide a reason for each suggestion or recommendation. You may submit your comments and material online or by fax, mail, or hand delivery, but please use only one of these means. FMCSA and FRA recommend that you include your name and a mailing address, an email address, or a phone number in the body of your document so the Agency can contact you if it has questions regarding your submission.

To submit your comment online, go to http://www.regulations.gov and enter either docket number, “FMCSA-2015-0419” or “FRA-2015-0111” in the “Keyword” box, and click “Search.” When the new screen appears, click on “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope.

FMCSA and FRA will consider all comments and material received during the comment period and may change this document based on your comments.

Viewing Comments and Documents

To view comments, as well as documents available in the docket, go to http://www.regulations.gov and insert the docket number, “FMCSA-2015-0419” or “FRA-2015-0111” in the “Keyword” box and click “Search.” Next, click “Open Docket Folder” button and choose the document listed to review. If you do not have access to the Internet, you may view the docket online by visiting the Docket Management Facility in Room W12-140 on the ground floor of the DOT West Building, 1200 New Jersey Avenue SE., Washington, DC 20590, between 9 a.m. and 5 p.m., ET, Monday through Friday, except Federal holidays.

Privacy Act

Under 5 U.S.C. 553(c), DOT solicits comments from the public to better inform its potential rulemaking process. DOT posts these comments, without edit, including any personal information the commenter provides, to www.regulations.gov, as described in the system of records notice (DOT/ALL-14 FDMS), which can be reviewed at www.dot.gov/privacy.

Background

On May 18, 2016, the Owner Operator Independent Drivers Association (OOIDA) requested an extension to the comment period (Docket ID: FMCSA-2015-0419-0348) in order to review the results from the American Transportation Research Institute (ATRI) Commercial Driver Survey on Sleep Apnea Issues (http://atri-online.org/2016/04/14/atri-launches-commercial-driver-survey-on-sleep-apnea-issues/). In its request, OOIDA stated that the survey will provide a comprehensive look at the impact of OSA screening and treatment within the motor carrier community that is beyond the information which any one carrier can provide. Furthermore, with this data in hand, OOIDA will be able to present a better analysis of the information requested by the ANPRM. ATRI released its survey results on Thursday, May 26, 2016.

FMCSA and FRA believe that other potential commenters to this rulemaking will benefit from an extension as well. Accordingly, FMCSA and FRA extend the comment period for all comments on the ANPRM and its related documents to July 8, 2016.

Issued under the authority of delegations in 49 CFR 1.87(f) and (i) and 49 CFR 1.89(a), respectively: June 2, 2016.
Larry W. Minor,
Associate Administrator for Policy, Federal Motor Carrier Safety Administration.
Robert C. Lauby,
Associate Administrator for Railroad Safety & Chief Safety Officer, Federal Railroad Administration.

[FR Doc. 2016-13564 Filed 6-7-16; 8:45 am]

BILLING CODE 4910-EX-P